FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Complex Institution Liquidity Monitoring Report (FR 2052a; OMB No. 7100-0361).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 2052a.

Final Approval Under OMB Delegated Authority of the Extension for Three Years, Without Revision, of the Following Information Collection

Collection title: Complex Institution Liquidity Monitoring Report.

Collection identifier: FR 2052a.

OMB control number: 7100-0361.

General description of collection: The FR 2052a collects quantitative information on select assets, liabilities, funding activities, and contingent liabilities of certain banking organizations. The Board uses this information to monitor the liquidity profile of these banking organizations.

The data collected by the FR 2052a provide detailed information about the liquidity risks within different business lines (e.g., financing of securities positions or prime brokerage activities) of certain large banking organizations supervised by the Board. The Board's supervisory surveillance program relies on this data, which provide timely information about banking organization-specific liquidity risks during periods of stress. The Board uses analyses of liquidity risk to inform its supervisory processes, including the preparation of analytical reports that detail funding vulnerabilities. FR 2052a data also contribute to the Board's supervisory monitoring efforts by identifying potential impediments to the movement of liquidity across legal entities. In addition, the FR 2052a provides detailed information that the Board uses to monitor compliance with the Liquidity Coverage Ratio (LCR) and Net Stable Funding Ratio (NSFR) rules under the Board's Regulation WW—Liquidity Risk Measurement, Standards, and Monitoring (12 CFR part 249).

Frequency: Daily, monthly.

Respondents: Banking organizations subject to Category I, II, III, or IV standards under the Board's Regulation YY and Regulation LL. The panel includes (1) any top-tier U.S. bank holding company with $100 billion or more in total consolidated assets that is not a subsidiary of a foreign banking organization (FBO), (2) any top-tier U.S. savings and loan holding company with $100 billion or more in total consolidated assets that is a covered depository institution holding company as defined by the LCR and NSFR rules and is not a subsidiary of an FBO, and (3) any FBO, as defined by the Board's Regulation YY, with combined U.S. assets of $100 billion or more.

Total estimated number of respondents: Daily, 18; Monthly, 23.

Estimated average hours per response: Daily, 221; Monthly 121.

Total estimated annual burden hours: 1,027,896.

Current actions: On October 2, 2024, the Board published a notice in the Federal Register (89 FR 80240) requesting public comment for 60 days on the extension, without revision, of the FR 2052a. The comment period for this notice expired on December 2, 2024. The Board did not receive any comments.

Board of Governors of the Federal Reserve System, February 4, 2025.
Benjamin W. McDonough,
Deputy Secretary and Ombuds of the Board.

[FR Doc. 2025-02359 Filed 2-6-25; 8:45 am]

BILLING CODE 6210-01-P